DEPARTMENT OF ENERGY

Federal Energy Regulatory Commission

[Docket No. EL09-75-000]

Buckeye Power, Inc., Complainant v. Midwest Independent Transmission System Operator, Inc., Respondent; Notice of Complaint

September 11, 2009.

Take notice that on September 10, 2009, Buckeye Power, Inc. (Buckeye) filed a formal complaint against the Midwest Independent Transmission System Operator, Inc. (Midwest ISO) pursuant to section 306 of the Federal Power Act and Rule 206 of the Commission's Rules of Practice and Procedure. Buckeye alleges in the complaint that it should be able to continue to receive certain ancillary services under the open access transmission tariff of PJM Interconnection, LLC (PJM) for a portion of Buckeye's electric cooperative member load that is located within the Midwest ISO boundaries, rather than being compelled to receive such services from the Midwest ISO under its open access transmission, energy and operating reserve market tariff.

Buckeye certifies that copies of the complaint were served on the Midwest ISO and PJM.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 1, 2009.

Kimberly D. Bose,
Secretary.

[FR Doc. E9-22476 Filed 9-17-09; 8:45 am]

BILLING CODE 6717-01-P